DEPARTMENT OF HEALTH AND HUMAN SERVICES

Administration for Children and Families

Educational Development and Partnership Division, Office of Head Start

AGENCY: Educational Development and Partnership Division (EDPD), Office of Head Start (OHS), Administration for Children and Families (ACF), Department of Health and Human Services (DHHS).

ACTION: Notice to award a Non-competitive Successor Grant.

CFDA#: 93.600.

Legislative Authority: Section 648(g) of the Head Start Act (42 U.S.C. 9843) for these Career Advancement Partnership Programs.

Project Period: January 22, 2009-September 29, 2009.

SUMMARY: Notice is hereby given that the Administration for Children and Families (ACF), Educational Development and Partnership Division (EDPD) will award a non-competitive successor award to Southwestern Indian Polytechnic Institute (SIPI) a Tribal College federally charted and operated by the Bureau of Indian Education, Department of the Interior located in Albuquerque, NM. Southwestern Indian Polytechnic Institute (SIPI) will assume a grant award under the Head Start Career Advancement Partnership Program for the remainder of the project period January 22, 2009 to September 29, 2009. The Board of Regents, Southwestern Indian Polytechnic Institute, has relinquished the grant to its Federal entity to ensure greater internal controls.

FOR FURTHER INFORMATION CONTACT: Georgeline Sparks, Program Officer, Educational Development and Partnership Division, 1250 Maryland Ave., SW., Washington, DC 20024 or by phone at (202) 205-8539, or by e-mail at georgeline.sparks@acf.hhs.gov.

Dated: February 13, 2009.
Patricia Brown,
Acting Director, Office of Head Start.

[FR Doc. E9-3833 Filed 2-23-09; 8:45 am]

BILLING CODE 4184-01-P